NATIONAL AERONAUTICS AND SPACE ADMINISTRATION

[Notice 07-045]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: May 29, 2007.

FOR FURTHER INFORMATION CONTACT: Edward K. Fein, Patent Counsel, Johnson Space Center, Mail Code AL, Houston, TX 77058-8452; telephone (281) 483-4871; fax (281) 483-6936.

NASA Case No. MSC-23933-1: Low-Impact Mating System;

NASA Case No. MSC-24142-1: Self-Deploying Space Truss;

NASA Case No. MSC-24207-1: Heat Rejection Sublimator;

NASA Case No. MSC-24169-1: Self-Regulating Control Of Parasitic Loads In A Fuel Cell Power System;

NASA Case No. MSC-24106-1: System Comprising Interchangeable Electronic Controllers And Corresponding Methods.

Dated: May 21, 2007.
Keith T. Sefton,
Deputy General Counsel, Administration and Management.

[FR Doc. E7-10170 Filed 5-25-07; 8:45 am]

BILLING CODE 7510-13-P